DEPARTMENT OF COMMERCE

International Trade Administration

[A-580-810 and A-583-815]

Welded ASTM A-312 Stainless Steel Pipe From South Korea and Taiwan: Final Results of the Expedited Fourth Sunset Reviews of the Antidumping Duty Orders

AGENCY: Enforcement and Compliance, International Trade Administration, Department of Commerce.

DATES: Effective March 7, 2017.

SUMMARY: As a result of these sunset reviews, the Department of Commerce (the Department) finds that revocation of the antidumping duty orders on welded ASTM A-312 stainless steel pipe from South Korea and Taiwan would be likely to lead to continuation or recurrence of dumping. The magnitude of the dumping margins likely to prevail is indicated in the “Final Results of Sunset Review” section of this notice.

FOR FURTHER INFORMATION CONTACT: Jacqueline Arrowsmith, AD/CVD Operations, Office VII, Enforcement and Compliance, U.S. Department of Commerce, 1401 Constitution Avenue NW., Washington, DC 20230; telephone (202) 482-5255.

SUPPLEMENTARY INFORMATION:

Background

The antidumping duty orders on welded ASTM A-312 stainless steel pipe from South Korea and Taiwan were published on December 30, 1992.¹ On November 1, 2016, the Department published the notice of initiation of the sunset reviews of the antidumping duty orders on certain welded ASTM A-312 stainless steel pipe from South Korea and Taiwan pursuant to section 751(c) of the Tariff Act of 1930, as amended (the Act).²

¹ See Antidumping Duty Order and Clarification of Final Determination: Certain Welded Stainless Steel Pipes From Korea, 57 FR 62301 (December 30, 1992) and Notice of Amended Final Determination and Antidumping Duty Order: Certain Welded Stainless Steel Pipe From the Republic of Korea, 60 FR 10064 (February 23, 1995); see also Amended Final Determination and Antidumping Duty Order: Certain Welded Stainless Steel Pipe From Taiwan, 57 FR 62300 (December 30, 1992).

² See Initiation of Five-Year (“Sunset”) Reviews, 81 FR 75808 (November 1, 2016) (Sunset Initiation).

In accordance with 19 CFR 351.218(d)(1)(i) and (ii), the Department received a notice of intent to participate in these sunset reviews from Bristol Metals LLC,³ Felker Brothers Corporation, Marcegaglia USA, and Outokumpu Stainless Pipe, Inc. (Domestic Interested Parties), within 15 days after the date of publication of the Sunset Initiation. Petitioners claimed interested party status under section 771(9)(C) of the Act, as domestic producers of the domestic like product.

³ Bristol Metals was the petitioner during the Less Than Fair Value Investigation. See “Letter from Schagrin Associates to the Honorable Penny Pritzker, Secretary to Commerce, Welded ASTM A-312 stainless steel pipes from Korea, Fourth Sunset Review: Substantive Response to Notice of Initiation,” dated December 1, 2016 at 2. See also “Letter from Schagrin Associates to the Honorable Penny Pritzker, Secretary to Commerce, Welded ASTM A-312 stainless steel pipes from Taiwan Fourth Sunset Review: Substantive Response to Notice of Initiation,” dated November 8, 2016 at 2.

On December 1, 2016, the Department received complete substantive responses to the notices of initiation from Domestic Interested Parties within the 30-day deadline specified in 19 CFR 351.218(d)(3)(i). The Department received no substantive response from any respondent interested parties. As a result, the Department conducted an expedited, i.e., 120-day, sunset review of this order pursuant to section 751(c)(3)(B) of the Act and 19 CFR 351.218(e)(1)(ii)(C)(2). On January 17, 2017, Domestic Interested Parties submitted a letter clarifying which U.S. Harmonized Tariff Schedule (HTSUS) numbers were included in the import data provided in Exhibit 1 of its substantive responses.⁴

⁴ See Letter from Schagrin Associates to the Honorable Penny Pritzker, “Welded ASTM A-312 stainless steel pipes from Korea and Taiwan, Fourth Sunset Review: Clarification of Substantive Response to Notice of Initiation,” dated January 17, 2017.

Scope of the Orders

South Korea

The products covered by the order are shipments of welded austenitic stainless steel pipe (WSSP) from Korea that meets the standards and specifications set forth by the American Society for Testing and Materials (ASTM) for the welded form of chromium-nickel pipe designated ASTM A-312. WSSP is produced by forming stainless steel flat-rolled products into a tubular configuration and welding along the seam. WSSP is a commodity product generally used as a conduit to transmit liquids or gases. Major applications for WSSP include, but are not limited to, digester lines, blow lines, pharmaceutical lines, petrochemical stock lines, brewery process and transport lines, general food processing lines, automotive paint lines and paper process machines.

Imports of these products are currently classifiable under the following HTSUS subheadings: 7306.40.5005, 7306.40.5015, 7306.40.5040, 7306.40.5065 and 7306.40.5085. Although the HTSUS subheadings include both pipes and tubes, the scope of the order is limited to welded austenitic stainless steel pipes. The HTSUS subheadings are provided for convenience and customs purposes. The written description remains dispositive.

Taiwan

The merchandise subject to the order is welded austenitic stainless steel pipe that meets the standards and specifications set forth by the American Society for Testing and Materials (ASTM) for the welded form of chromium-nickel pipe designated ASTM A-312. The merchandise covered by the scope of the order also includes austenitic welded stainless steel pipes made according to standards of other nations, which are comparable to ASTM A-312.

WSSP is produced by forming stainless steel flat-rolled products into a tubular configuration and welding along the seam. WSSP is a commodity product generally used as a conduit to transmit liquids or gases. Major applications for WSSP include, but are not limited to, digester lines, blow lines, pharmaceutical lines, petrochemical stock lines, brewery process and transport lines, general food processing lines, automotive paint lines and paper process machines. Imports of these products are currently classifiable under the following HTSUS subheadings: 7306.40.5005, 7306.40.5015, 7306.40.5040, 7306.40.5065 and 7306.40.5085. Although the HTSUS subheadings include both pipes and tubes, the scope of the order is limited to welded austenitic stainless steel pipes. The HTSUS subheadings are provided for convenience and customs purposes. The written description remains dispositive.

Analysis of Comments Received

All issues raised in these reviews are addressed in the Issues and Decision Memorandum,⁵ including the likelihood of continuation or recurrence of dumping in the event of revocation, and the magnitude of dumping margins likely to prevail if the orders were revoked. Parties can find a complete discussion of all issues raised in this review and the corresponding recommendations in the Issues and Decision Memorandum, which is on file electronically via Enforcement and Compliance's Antidumping and Countervailing Duty Centralized Electronic Service System (ACCESS). ACCESS is available to registered users at http://access.trade.gov and is available to all parties in the Central Records Unit in room B8024 of the main Commerce building. In addition, a complete version of the Issues and Decision Memorandum can be accessed directly on the Internet at http://trade.gov/enforcement/. The signed and electronic versions of the Decision Memorandum are identical in content.

⁵ See “Issues and Decision Memorandum: Final Results of Expedited Sunset Reviews of the Antidumping Duty Orders on Welded ASTM A-312 Stainless Steel Pipe From South Korea and Taiwan, dated concurrently with this Federal Register notice.

Final Results of Sunset Review

Pursuant to sections 752(c)(1) and (3) of the Act, we determine that revocation of the antidumping duty order on Welded ASTM A-312 Stainless Steel Pipe from South Korea and the antidumping duty order on Welded ASTM A-312 Stainless Steel Pipe Taiwan would be likely to lead to continuation or recurrence of dumping up to the following weighted-average margins:

Country | Weighted- average margin (percent)
South Korea | 17.14
Taiwan | 31.90

Notification to Interested Parties

This notice serves as the only reminder to parties subject to the administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

The Department is issuing and publishing these final results and notice in accordance with sections 751(c), 752(c), and 777(i)(1) of the Act and 19 CFR 351.218.

Dated: March 1, 2017.
Ronald K. Lorentzen,
Acting Assistant Secretary For Enforcement & Compliance.

[FR Doc. 2017-04421 Filed 3-6-17; 8:45 am]

BILLING CODE 3510-DS-P